DEPARTMENT OF COMMERCE

National Oceanic and Atmospheric Administration

[RTID 0648-XD224]

Endangered and Threatened Species; Take of Anadromous Fish.

AGENCY: National Marine Fisheries Service (NMFS), National Oceanic and Atmospheric Administration (NOAA), Department of Commerce.

ACTION: Notice; availability of a permit application and request for public comment.

SUMMARY: Notice is hereby given that NMFS has received an update to an application for a direct take permit, in the form of a Hatchery and Genetic Management Plan (HGMP) for hatchery plans rearing and releasing Sockeye salmon into the Snake River basin. The permits describe hatchery programs operated by the Idaho Department of Fish and Game (IDFG), Shoshone-Bannock Tribe (SBT), National Marine Fisheries Service's Northwest Fisheries Science Center (NWFSC) and Oregon Department of Fish and Wildlife (ODFW). This document serves to notify the public of the availability and opportunity to comment on a draft Environmental Assessment (EA) and an HGMP on the proposed hatchery program.

DATES: Comments must be received at the appropriate address (see ADDRESSES) no later than 5:00 p.m. Pacific time on September 7, 2023. Comments received after this date may not be considered.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email comment the following identifier: Comments on the Snake River sockeye hatchery program.

FOR FURTHER INFORMATION CONTACT: Andreas Raisch at (503) 230-5405 or by email at andreas.raisch@noaa.gov

SUPPLEMENTARY INFORMATION:

ESA-Listed Species Covered in This Notice

• Snake River Sockeye (O. nerka): endangered, naturally and artificially propagated.

• Chinook salmon (Oncorhynchus tshawytscha): threatened, naturally and artificially propagated;

○ Snake River Spring/Summer run: threatened, naturally and artificially propagated;

• Snake River Steelhead (O. mykiss): threatened, naturally and artificially propagated.

Background

Section 9 of the Endangered Species Act (ESA) and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 10(a)(1)(A) of the ESA (50 CFR 222.308).

The operators and funding agencies, including IDFG, SBT, ODFW, NMFS's NWFSC and Bonneville Power Administration (BPA), submitted an HGMP to NMFS pursuant to NMFS' ESA Section 10(a)(1)(A) for hatchery activities in the Snake River basin. An EA was also prepared pursuant to the National Environmental Policy Act (NEPA) by NMFS for the Snake River sockeye salmon hatchery program.

The programs are intended to contribute to the survival and recovery of Snake River Sockeye salmon in the Snake River basin. The proposed program would maintain the Snake River sockeye salmon captive broodstock, collect and spawn adult sockeye salmon returning to the Snake River basin, rear juveniles, and release eggs, juveniles, and adult fish in upper Salmon River basin lakes as well as into Tanner Creek. The proposed continuation of the program would indicate best management practices to minimize adverse effects on the ESU.

Authority

16 U.S.C. 1531 et seq.; 16 U.S.C. 742a et seq.

Dated: August 3, 2023.
Angela Somma,
Chief, Endangered Species Conservation Division, Office of Protected Resources, National Marine Fisheries Service.

[FR Doc. 2023-16962 Filed 8-7-23; 8:45 am]

BILLING CODE 3510-22-P